ENVIRONMENTAL PROTECTION AGENCY

[EPA-HQ-OPPT-2014-0327; FRL-9913-17]

Notice of Expert Public Workshop on Alternatives and Risk Reduction Approaches to Trichloroethylene (TCE)

AGENCY: Environmental Protection Agency (EPA).

ACTION: Notice.

SUMMARY: EPA is holding a public workshop to gather information from experts on the use of trichloroethylene (TCE) as a degreaser, availability and efficacy of safer alternatives, and possible risk reduction approaches. This workshop will examine TCE use as a degreaser in various applications, including cold cleaning, vapor degreasing, or as an aerosol. In June, EPA completed its final risk assessment that identified health risks to people, including workers, when TCE is used as a degreaser. This effort is part of EPA's commitment to improve the safety of existing chemicals under the Toxic Substances Control Act (TSCA). Information from the workshop will be helpful as EPA works with stakeholders on potential risk reduction approaches.

DATES: The workshop will be held on July 29, 2014, from 9 a.m. to 5 p.m., and on July 30, 2014, from 9 a.m. to noon.

Written comments, identified by docket identification (ID) number EPA-HQ-OPPT-2014-0327, must be received on or before July 22, 2014.

Requests to participate in the workshop must be received on or before July 22, 2014. All interested in participating are invited to pre-register at the following Web site: http://www.epa.gov/oppt/existingchemicals/pubs/workplans.html by July 22, 2014. Pre-registering will allow EPA to improve workshop planning.

To request accommodation of a disability, please contact the technical person listed under FOR FURTHER INFORMATON CONTACT, preferably at least 10 days prior to the meeting, to give EPA as much time as possible to process your request.

ADDRESSES: The workshop will be held at EPA Headquarters, East William Jefferson Clinton Bldg., Rm. 4225, 1201 Constitution Ave. NW., Washington, DC 20460-0001.

Submit your comments, identified by docket ID number EPA-HQ-OPPT-2014-0327, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket al.ng with more information about dockets generally, is available at http://www.epa.gov/dockets.

Submit requests to participate in the workshop, identified by docket ID number EPA-HQ-OPPT-2014-0327, to the technical person listed under FOR FURTHER INFORMATION CONTACT. Upon request, a teleconferencing number will be provided for those who wish to attend the workshop remotely.

FOR FURTHER INFORMATION CONTACT: For technical information contact: Katherine Sleasman, Chemical Control Division (7405M), Office of Pollution Prevention and Toxics, Environmental Protection Agency, 1200 Pennsylvania Ave. NW., Washington, DC 20460-0001; telephone number: (202) 564-7716; email address: sleasman.katherine@epa.gov.

For general information contact: The TSCA-Hotline, ABVI-Goodwill, 422 South Clinton Ave. Rochester, NY 14620; telephone number: (202) 554-1404; email address: TSCA-Hotline@epa.gov.

SUPPLEMENTARY INFORMATION:

I. General Information

A. Does this action apply to me?

You may be potentially affected by this action if you manufacture, process, or distribute in commerce chemical substances and mixtures. The following list of North American Industrial Classification System (NAICS) codes is not intended to be exhaustive, but rather provides a guide to help readers determine whether this document applies to them. Potentially affected entities may include:

• Textile Product Mills (NAICS code 314).

• Wood Product Manufacturing (NAICS code 321).

• Printing and Related Support Activities (NAICS code 323).

• Chemical Manufacturing (NAICS code 325).

• Plastics and Rubber Product Manufacturing (NAICS code 326).

• Primary Metal Manufacturing (NAICS code 331).

• Fabricated Metal Product Manufacturing (NAICS code 332).

• Machinery Manufacturing (NAICS code 333).

• Computer and Electronic Product Manufacturing (NAICS code 334).

• Electrical Equipment, Appliance, and Component Manufacturing (NAICS code 335).

• Transportation Equipment Manufacturing (NAICS code 336).

• Furniture and Product Related Manufacturing (NAICS code 337).

• Miscellaneous Manufacturing (NAICS code 339).

• Clothing and Clothing Accessory Stores (NAICS code 488).

• Warehousing and Storage (NAICS code 493).

• Repair and Maintenance (NAICS code 811).

• National Security and International Affairs (NAICS code 928).

B. How can I get copies of this document and other related information?

The docket for this action, identified by docket ID number EPA-HQ-OPPT-2014-0327, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

TCE was identified for risk assessment as part of EPA's Existing Chemicals Management Program. EPA reviewed readily available information on TCE including uses, physical and chemistry properties, fate, exposure potential, and associated hazards to humans and the environment. TCE was selected based on concerns for its human health hazard (e.g., human carcinogen), and its exposure profile (i.e., widely used in consumer products and detected in drinking water, indoor environments, surface water, ambient air, groundwater, and soil) using OPPT's TSCA Work Plan screening methodology. The purpose of the workshop is to collect more information on how TCE is used as a degreaser, understand the process and efficacy considerations important to selecting safer alternatives, solicit feedback on potential alternatives to TCE, and discuss safer engineering practices and technologies that can reduce exposure to TCE. Information from the workshop will be helpful as EPA works with stakeholders on potential risk reduction approaches.

The goals of the workshop are to generate information from experts on TCE when used as a degreaser and better understand the factors when transitioning to safer alternatives. The other uses of TCE as described in the Agency's final risk assessment will be addressed separately. The workshop will include various presentations, keynote lectures, breakout sessions with case studies, and public comment opportunities. To start the workshop, EPA will present its findings from its final risk assessment available online at http://www.epa.gov/oppt/existingchemicals/pubs/workplans.html. Workshop experts will discuss how TCE is used as a degreaser, the process and efficacy considerations important to safer alternative selection, present case studies that examine potential alternatives to TCE, and discuss safer engineering practices, new products, and technologies that can reduce exposure to TCE. Many sessions will include charge and outcome questions to guide the discussion. This workshop will include periods for public comment. EPA's goal is to bring the experts together and understand the challenges and opportunities when making changes to decrease exposure to TCE.

III. How can I request to participate in this meeting?

You may submit a request to participate in this meeting to the technical person listed under FOR FURTHER INFORMATION CONTACT. Do not submit any information in your request that is considered CBI.

Requests to participate in the meeting, identified by docket ID number EPA-HQ-OPPT-2014-0327, must be received on or before July 22, 2014.

The Agency is also providing an opportunity to submit written comments in lieu of attending the workshop. Written comments, identified by docket ID number EPA-HQ-OPPT-2014-0327, must be received on or before July 22, 2014, in order to provide the Agency adequate time to compile comments for the workshop.

The Agency encourages each individual or group wishing to make brief oral comments submit their request to the technical person listed under FOR FURTHER INFORMATION CONTACT on or before July 22, 2014, in order to be included on the meeting agenda. While requests to present oral comments will be accepted until the date of the meeting and, to the extent that time permits, the Agency may permit the presentation of oral comments at the meeting by interested persons who have not previously requested time. The request should identify the name of the individual making the presentation and the organization (if any) the individual represents. Oral comments at the workshop are limited to approximately 5 minutes.

List of Subjects

Environmental protection, Chemicals, Hazardous substances, Reporting and recordkeeping requirements.

Dated: June 27, 2014.
Wendy C. Hamnett,
Director, Office of Pollution Prevention and Toxics.

[FR Doc. 2014-15662 Filed 7-2-14; 8:45 am]

BILLING CODE 6560-50-P